DEPARTMENT OF EDUCATION

[Docket No.: ED-2022-SCC-0072]

Agency Information Collection Activities; Submission to the Office of Management and Budget for Review and Approval; Comment Request; National Center for Information and Technical Support for Postsecondary Students With Disabilities (NCITSPSD) Program Database

AGENCY: Office of Postsecondary Education (OPE), Department of Education (ED).

ACTION: Notice.

SUMMARY: In accordance with the Paperwork Reduction Act of 1995, ED is proposing an extension without change of a currently approved collection.

DATES: Interested persons are invited to submit comments on or before September 15, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Shedita Alston, 202-453-7090.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: National Center for Information and Technical Support for Postsecondary Students with Disabilities (NCITSPSD) Program Database.

OMB Control Number: 1840-0841.

Type of Review: An extension without change of a currently approved collection.

Respondents/Affected Public: State, Local, and Tribal Governments; Private Sector.

Total Estimated Number of Annual Responses: 4,583.

Total Estimated Number of Annual Burden Hours: 13,749.

Abstract: In 2021, a federal discretionary grant was awarded via the National Center for Information and Technical Support for Postsecondary Students with Disabilities Program (NCITSPSD) to the National Center for College Students with Disabilities (NCCSD) at the University of Minnesota and is authorized by Congress in the Higher Education Opportunity Act of 2008 (777.4). The NCITSPSD program grant was originally awarded in 2015 to the Association on Higher Education and Disability (AHEAD). The NCCSD College Disability Resource Database (CeDar) is designed to address a gap in information about services and accessibility for college students with disabilities, who make up 11% of the undergraduate population. Existing general information about colleges is available in the U.S. Department of Education's on-line College Navigator and College Affordability and Transparency Center, but the only information about students with disabilities in these databases is the percentage of students registered with campus disability services office. At this time, this is the only database that provides systemic collection of information about campus-level, disability-related services, access, and activities at colleges and universities in the United States. The NCCSD survey asks all U.S. campuses to provide basic information about disability services, accessibility of campuses, and disability-related activities that may affect inclusion and the campus climate. The data is available to the public in an accessible and searchable database to assist prospective college students and their families in making informed decisions during the college search process. Because the database is public, researchers and policy makers are able to utilize the data to gather information about disability and higher education in systemic ways.

Dated: August 11, 2022.
Kun Mullan,
PRA Coordinator, Strategic Collections and Clearance Governance and Strategy Division, Office of Chief Data Officer, Office of Planning, Evaluation and Policy Development.

[FR Doc. 2022-17559 Filed 8-15-22; 8:45 am]

BILLING CODE 4000-01-P